NUCLEAR REGULATORY COMMISSION

Biweekly Notice; Applications and Amendments to Facility Operating Licenses Involving No Significant Hazards Considerations

I. Background

Pursuant to Public Law 97-415, the U.S. Nuclear Regulatory Commission (the Commission or NRC staff) is publishing this regular biweekly notice. Public Law 97-415 revised section 189 of the Atomic Energy Act of 1954, as amended (the Act), to require the Commission to publish notice of any amendments issued, or proposed to be issued, under a new provision of section 189 of the Act. This provision grants the Commission the authority to issue and make immediately effective any amendment to an operating license upon a determination by the Commission that such amendment involves no significant hazards consideration, notwithstanding the pendency before the Commission of a request for a hearing from any person.

This biweekly notice includes all notices of amendments issued, or proposed to be issued, from October 17, 2003, through October 30, 2003. The last biweekly notice was published on October 28, 2003 (68 FR 59212).

Notice of Consideration of Issuance of Amendments to Facility Operating Licenses, Proposed No Significant Hazards Consideration Determination, and Opportunity for a Hearing

The Commission has made a proposed determination that the following amendment requests involve no significant hazards consideration. Under the Commission's regulations in 10 CFR 50.92, this means that operation of the facility in accordance with the proposed amendment would not (1) involve a significant increase in the probability or consequences of an accident previously evaluated; or (2) create the possibility of a new or different kind of accident from any accident previously evaluated; or (3) involve a significant reduction in a margin of safety. The basis for this proposed determination for each amendment request is shown below.

The Commission is seeking public comments on this proposed determination. Any comments received within 30 days after the date of publication of this notice will be considered in making any final determination.

Normally, the Commission will not issue the amendment until the expiration of the 30-day notice period. However, should circumstances change during the notice period such that failure to act in a timely way would result, for example, in derating or shutdown of the facility, the Commission may issue the license amendment before the expiration of the 30-day notice period, provided that its final determination is that the amendment involves no significant hazards consideration. The final determination will consider all public and State comments received before action is taken. Should the Commission take this action, it will publish in the Federal Register a notice of issuance and provide for opportunity for a hearing after issuance. The Commission expects that the need to take this action will occur very infrequently.

Written comments may be submitted by mail to the Chief, Rules and Directives Branch, Division of Administrative Services, Office of Administration, U.S. Nuclear Regulatory Commission, Washington, DC 20555-0001, and should cite the publication date and page number of this Federal Register notice. Written comments may also be delivered to Room 6D22, Two White Flint North, 11545 Rockville Pike, Rockville, Maryland, from 7:30 a.m. to 4:15 p.m. Federal workdays. Copies of written comments received may be examined at the Commission's Public Document Room (PDR), located at One White Flint North, Public File Area 01F21, 11555 Rockville Pike (first floor), Rockville, Maryland. The filing of requests for a hearing and petitions for leave to intervene is discussed below.

By December 12, 2003, the licensee may file a request for a hearing with respect to issuance of the amendment to the subject facility operating license and any person whose interest may be affected by this proceeding and who wishes to participate as a party in the proceeding must file a written request for a hearing and a petition for leave to intervene. Requests for a hearing and a petition for leave to intervene shall be filed in accordance with the Commission's “Rules of Practice for Domestic Licensing Proceedings” in 10 CFR Part 2. Interested persons should consult a current copy of 10 CFR 2.714, which is available at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/doc-collections/cfr/. If a request for a hearing or petition for leave to intervene is filed by the above date, the Commission or an Atomic Safety and Licensing Board, designated by the Commission or by the Chairman of the Atomic Safety and Licensing Board Panel, will rule on the request and/or petition; and the Secretary or the designated Atomic Safety and Licensing Board will issue a notice of a hearing or an appropriate order.

As required by 10 CFR 2.714, a petition for leave to intervene shall set forth with particularity the interest of the petitioner in the proceeding, and how that interest may be affected by the results of the proceeding. The petition should specifically explain the reasons why intervention should be permitted with particular reference to the following factors: (1) The nature of the petitioner's right under the Act to be made a party to the proceeding; (2) the nature and extent of the petitioner's property, financial, or other interest in the proceeding; and (3) the possible effect of any order which may be entered in the proceeding on the petitioner's interest. The petition should also identify the specific aspect(s) of the subject matter of the proceeding as to which petitioner wishes to intervene. Any person who has filed a petition for leave to intervene or who has been admitted as a party may amend the petition without requesting leave of the Board up to 15 days prior to the first prehearing conference scheduled in the proceeding, but such an amended petition must satisfy the specificity requirements described above.

Not later than 15 days prior to the first prehearing conference scheduled in the proceeding, a petitioner shall file a supplement to the petition to intervene which must include a list of the contentions which are sought to be litigated in the matter. Each contention must consist of a specific statement of the issue of law or fact to be raised or controverted. In addition, the petitioner shall provide a brief explanation of the bases of the contention and a concise statement of the alleged facts or expert opinion which support the contention and on which the petitioner intends to rely in proving the contention at the hearing. The petitioner must also provide references to those specific sources and documents of which the petitioner is aware and on which the petitioner intends to rely to establish those facts or expert opinion. Petitioner must provide sufficient information to show that a genuine dispute exists with the applicant on a material issue of law or fact. Contentions shall be limited to matters within the scope of the amendment under consideration. The contention must be one which, if proven, would entitle the petitioner to relief. A petitioner who fails to file such a supplement which satisfies these requirements with respect to at least one contention will not be permitted to participate as a party.

Those permitted to intervene become parties to the proceeding, subject to any limitations in the order granting leave to intervene, and have the opportunity to participate fully in the conduct of the hearing, including the opportunity to present evidence and cross-examine witnesses.

If a hearing is requested, the Commission will make a final determination on the issue of no significant hazards consideration. The final determination will serve to decide when the hearing is held.

If the final determination is that the amendment request involves no significant hazards consideration, the Commission may issue the amendment and make it immediately effective, notwithstanding the request for a hearing. Any hearing held would take place after issuance of the amendment.

If the final determination is that the amendment request involves a significant hazards consideration, any hearing held would take place before the issuance of any amendment.

A request for a hearing or a petition for leave to intervene must be filed with the Secretary of the Commission, U.S. Nuclear Regulatory Commission, Washington, DC 20555-0001, Attention: Rulemaking and Adjudications Staff, or may be delivered to the Commission's PDR, located at One White Flint North, Public File Area 01F21, 11555 Rockville Pike (first floor), Rockville, Maryland, by the above date. Because of continuing disruptions in delivery of mail to United States Government offices, it is requested that petitions for leave to intervene and requests for hearing be transmitted to the Secretary of the Commission either by means of facsimile transmission to 301-415-1101 or by e-mail to hearingdocket@nrc.gov. A copy of the request for hearing and petition for leave to intervene should also be sent to the Office of the General Counsel, U.S. Nuclear Regulatory Commission, Washington, DC 20555-0001, and because of continuing disruptions in delivery of mail to United States Government offices, it is requested that copies be transmitted either by means of facsimile transmission to 301-415-3725 or by e-mail to OGCMailCenter@nrc.gov. A copy of the request for hearing and petition for leave to intervene should also be sent to the attorney for the licensee.

Nontimely filings of petitions for leave to intervene, amended petitions, supplemental petitions and/or requests for a hearing will not be entertained absent a determination by the Commission, the presiding officer or the Atomic Safety and Licensing Board that the petition and/or request should be granted based upon a balancing of factors specified in 10 CFR 2.714(a)(1)(i)-(v) and 2.714(d).

For further details with respect to this action, see the application for amendment which is available for public inspection at the Commission's PDR, located at One White Flint North, Public File Area 01F21, 11555 Rockville Pike (first floor), Rockville, Maryland. Publicly available records will be accessible from the Agencywide Documents Access and Management System's (ADAMS) Public Electronic Reading Room on the Internet at the NRC Web site, http://www.nrc.gov/reading-rm/adams.html. If you do not have access to ADAMS or if there are problems in accessing the documents located in ADAMS, contact the NRC PDR Reference staff at 1-800-397-4209, 301-415-4737 or by e-mail to pdr@nrc.gov.

Exelon Generation Company, LLC, Docket Nos. 50-373 and 50-374, LaSalle County Station, Units 1 and 2, LaSalle County, Illinois

Date of amendment request: July 1, 2003.

Description of amendment request: The proposed amendments would revise Appendix A, Technical Specifications (TS), of Facility Operating License Nos. NPF-11 and NPF-18. Specifically, the proposed changes will delete one and add two references to the list of analytical methods in TS 5.6.5, “Core Operating Limits Report (COLR),” that can be used to determine core operating limits. The deleted reference is to an analytical method that is no longer applicable to LaSalle County Station (LSCS). The new references will allow LSCS to use General Electric Company (GE) methods for the determination of fuel assembly critical power of Framatome Advanced Nuclear Fuel, Inc. (Framatome) Atrium-9B and Atrium-10 fuel. The proposed changes are the result of a LSCS decision to insert GE14 fuel during the upcoming refueling outage at LSCS Unit 1 in January 2004. GE's safety analysis methodologies have been previously used at LSCS and GE14 fuel is currently in use at other Exelon Generation Company, LLC (Exelon), stations.

The first added reference, “GEXL96 Correlation for Atrium-9B Fuel,” will list a method that was previously approved by the NRC for use by licensees. The second added reference, “GEXL97 Correlation for Atrium-10 Fuel,” will list a GE method for determining the critical power for Atrium-10 fuel. This correlation has not been previously reviewed and approved by the NRC for use by licensees. Additionally, editorial changes will be made to existing references.

Basis for proposed no significant hazards consideration determination: As required by 10 CFR 50.91(a), the licensee has provided its analysis of the issue of no significant hazards consideration, which is presented below:

1. The proposed changes do not involve a significant increase in the probability or consequences of an accident previously evaluated.

The proposed changes will delete one and add two additional references to the list of administratively controlled analytical methods in TS 5.6.5, “Core Operating Limits Report (COLR),” that can be used to determine core operating limits and make minor editorial changes to the existing references. TS 5.6.5 lists NRC approved analytical methods used at LaSalle County Station (LSCS) to determine core operating limits. [LSCS Unit 1 is scheduled to load GE fuel during its upcoming outage in January 2004.]

The proposed changes to TS Section 5.6.5 will add the fuel analytical methods that support the initial insertion of GE14 fuel to the list of methods used to determine the core operating limits. The deletion or addition of approved methods to TS Section 5.6.5 and minor editorial changes to the existing references has no effect on any accident initiator or precursor previously evaluated and does not change the manner in which the core is operated. The methods have been reviewed to ensure that the output accurately models predicted core behavior, have no effect on the type or amount of radiation released, and have no effect on predicted offsite doses in the event of an accident. Thus, the proposed changes do not have any effect on the probability of an accident previously evaluated.

The proposed changes in the administratively controlled analytical methods does [do] not affect the ability of LSCS to successfully respond to previously evaluated accidents and does [do] not affect radiological assumptions used in the evaluations. Thus, the radiological consequences of any accident previously evaluated are not increased.

Therefore, the proposed changes do not involve a significant increase in the probability or consequences of an accident previously evaluated.

2. The proposed changes do not create the possibility of a new or different kind of accident from any accident previously evaluated.

The proposed changes to TS Section 5.6.5 do not affect the performance of any LSCS structure, system, or component credited with mitigating any accident previously evaluated. The insertion of a new generation of fuel which has been analyzed with NRC approved methodologies will not affect the control parameters governing unit operation or the response of plant equipment to transient conditions. The proposed changes do not introduce any new modes of system operation or failure mechanisms.

Therefore, the proposed changes do not create the possibility of a new or different kind of accident from any previously evaluated.

3. The proposed changes do not involve a significant reduction in a margin of safety.

The proposed changes will delete one and add two additional references to the list of administratively controlled analytical methods in TS 5.6.5 that can be used to determine core operating limits and make minor editorial changes to the titles of existing references. The proposed changes do not modify the safety limits or setpoints at which protective actions are initiated, and do not change the requirements governing operation or availability of safety equipment assumed to operate to preserve the margin of safety. Therefore, LSCS has determined that the proposed changes provide an equivalent level of protection as that currently provided.

Therefore, the proposed changes do not involve a significant reduction in a margin of safety.

The NRC staff has reviewed the licensee's analysis and, based on this review, it appears that the three standards of 10 CFR 50.92(c) are satisfied. Therefore, the NRC staff proposes to determine that the requested amendments involve no significant hazards consideration.

Attorney for licensee: Mr. Edward J. Cullen, Deputy General Counsel, Exelon BSC—Legal, 2301 Market Street, Philadelphia, PA 19101.

NRC Section Chief: Anthony J. Mendiola.

Maine Yankee Atomic Power Company, Docket No. 50-309, Maine Yankee Atomic Power Station, Lincoln County, Maine

Date of amendment request: September 11, 2003.

Description of amendment request: Revise the dose model for the containment activated concrete, rebar (hereafter referred to as activated concrete) and liner, by incorporating more realistic radionuclide release rates and to change the associated derived concentration guideline limit (DCGL) for activated concrete.

Basis for proposed no significant hazards consideration determination: As required by 10 CFR 50.91(a), the licensee has provided its analysis of the issue of no significant hazards consideration, which is presented below:

1. Does the proposed amendment involve a significant increase in the probability or consequences of an accident previously evaluated?

Response: No.

The requested license amendment does not authorize any plant activities beyond those allowed by 10 CFR Chapter I or beyond those considered in the DSAR. The bounding accident described in the Defueled Safety Analysis Report (DSAR) for potential airborne activity is the postulated resin cask drop accident in the Low Level Radioactive Waste Storage Building. This accident is expected to contain more potential airborne activity than can be released from other decommissioning events. The radionuclide distribution assumed for the spent resin cask has a greater inventory of transuranic radionuclides (the major dose contributor) than the distribution of plant derived radionuclides in the components involved in other decommissioning accidents. The other accidents considered in the DSAR include: (1) Explosion of liquid petroleum gas (LPG) leaked from a front end loader or forklift; (2) Explosion of oxyacetylene during segmenting of the reactor vessel shell; (3) Release of radioactivity from the RCS decontamination ion exchange resins; (4) Gross leak during in-situ decontamination; (5) Segmentation of RCS piping with unremoved contamination; (6) Fire involving contaminated clothing or combustible waste; (7) Loss of local airborne contamination control during blasting or jackhammer operations; (8) Temporary Loss of Services; (9) Dropping of Contaminated Concrete Rubble; (10) Natural phenomena; and (11) Transportation accidents. The probabilities and consequences for these accidents are estimated in the basis documentation for DSAR Section 7. No systems, structures, or components that could initiate or be required to mitigate the consequences of an accident are affected by the proposed change in any way not previously evaluated in the DSAR. Since Maine Yankee does not exceed the salient parameters associated with the plant referenced in the basis documentation in any material respects, it is concluded that these probabilities and consequences are not increased. Therefore, the proposed change to the Maine Yankee license does not involve any increase in the probability or consequences of any accident previously evaluated.

2. Does the proposed amendment create the possibility of a new or different kind of accident from any accident previously evaluated?

Response: No.

The requested license amendment does not authorize any plant activities that could precipitate or result in any accidents beyond those considered in the DSAR. The accidents previously evaluated in the DSAR are described above. These accidents are described in the basis documentation for DSAR Section 7. The proposed change does not affect plant systems, structures, or components in any way not previously evaluated in the DSAR. Since Maine Yankee does not exceed the salient parameters associated with the plant referenced in the basis documentation in any material respects, it is concluded that these accidents appropriately bound the kinds of accidents possible during decommissioning. Therefore, the proposed change to the Maine Yankee license would not create the possibility of a new or different kind of accident from any accident previously evaluated.

3. Does the proposed amendment involve a significant reduction in a margin of safety?

Response: No.

The margin of safety defined in Maine Yankee's license basis for the consequences of decommissioning accidents has been established as the margin between the bounding decommissioning accident and the dose limits associated with the need for emergency plan offsite protection, namely the Environmental Protection Agency Protective Action Guidelines EPA-PAGs. As described above, the bounding decommissioning accident is the postulated resin cask drop accident in the Low Level Radioactive Waste Storage Building. Since the bounding decommissioning accident is expected to contain more potential airborne activity than can be released from other decommissioning events and since the radionuclide distribution assumed for the spent resin cask has more transuranics (the major dose contributor) than the distribution in the components involved in other decommissioning accidents, the margin of safety associated with the consequences of decommissioning accidents cannot be reduced. The margin of safety defined in the statements of consideration for the final rule on the Radiological Criteria for License Termination is described as the margin between the 100 mrem/yr public dose limit established in 10 CFR 20.1301 for licensed operation and the 25 mrem/yr dose limit to the average member of the critical group at a site considered acceptable for unrestricted use. This margin of safety accounts for the potential effect of multiple sources of radiation exposure to the critical group. Since the license termination plan (LTP) was designed to comply with the radiological criteria for license termination for unrestricted use, the margin of safety cannot be reduced. Therefore, the proposed changes to the Maine Yankee license would not involve a significant reduction in any margin of safety.

Conclusion

Based on the above, Maine Yankee concludes that the proposed amendment presents no significant hazards consideration under the standards set forth in 10 CFR 50.92(c), and, accordingly, a finding of “no significant hazards consideration” is justified.

The NRC staff has reviewed the licensee's analysis and, based on this review, it appears that the three standards of 10 CFR 50.92(c) are satisfied. Therefore, the NRC staff proposes to determine that the requested amendment involves no significant hazards consideration.

Attorney for licensee: Joe Fay, Esquire, Maine Yankee Atomic Power Company, 321 Old Ferry Road, Wiscasset, Maine 04578.

NRC Section Chief: Claudia M. Craig.

Nuclear Management Company, LLC, Docket No. 50-255, Palisades Plant, Van Buren County, Michigan

Date of amendment request: April 11, 2003.

Description of amendment request: The proposed amendment would make various administrative, editorial, and typographical changes to Technical Specification (TS) Section 5.0, “Administrative Controls.” Specifically, the proposed changes would:

(1) Correct TS 5.4.1.a by adding “Appendix A” after the reference to “Regulatory Guide 1.33, Revision 2,” and deleting “of” before this reference.

(2) Change TS 5.5.2.e by deleting the phrase “(approximately 44 psig)” which is an invalid reference to the normal hydrostatic head from the safety injection refueling water tank for the test conditions required for maximum allowable leakage from recirculation heat removal systems' components.

(3) Make several editorial changes to TS 5.6.1 to be consistent with the wording of NUREG-1432, “Standard Technical Specifications-Combustion Engineering Plants,” Revision 2 (STS), and the changes to the STS in Technical Specification Task Force (TSTF) Traveler TSTF-152. The editorial changes include (a) adding the word “collective” to describe the associated collective deep dose equivalent, (b) adding “thermoluminescence dosimeter” to define its acronym “(TLD),” (c) changing “stations” to “station,” (d) adding the words “received from” when describing the 80 percent of total deep dose equivalent received from external sources, and (e) making punctuation changes.

Basis for proposed no significant hazards consideration determination: As required by 10 CFR 50.91(a), the licensee has provided its analysis of the issue of no significant hazards consideration, which is presented below:

The following evaluation supports the finding that operation of the facility in accordance with the proposed change would not:

1. Involve a significant increase in the probability or consequences of an accident previously evaluated.

The proposed license amendment provides changes to Technical Specification (TS) Administrative Controls sections 5.4.1.a, 5.5.2.e, and 5.6.1. The proposed corrections to TS 5.4.1.a are editorial in nature. The proposed correction to TS 5.5.2.e, which deletes an erroneous approximate value from the description of test conditions for maximum allowable leakage from recirculation heat removal system components, is consistent with the existing plant design as described in the Palisades Final Safety Analysis Report. The proposed correction to TS 5.6.1 is editorial in nature and is consistent with the Nuclear Regulatory Commission approved standard technical specifications. The proposed amendment does not involve operation of the required structures, systems or components (SSCs) in a manner or configuration different from those previously recognized or evaluated.

Therefore, operation of the facility in accordance with the proposed amendment would not involve a significant increase in the probability or consequences of an accident previously evaluated.

2. Create the possibility of a new or different kind of accident from any accident previously evaluated.

The proposed amendment does not involve a physical alteration of any SSC or a change in the way any SSC is operated. The proposed amendment does not involve operation of any required SSCs in a manner or configuration different from those previously recognized or evaluated. No new failure mechanisms will be introduced by the changes being requested.

Thus, this change does not create the possibility of a new or different kind of accident from any accident previously evaluated.

3. Involve a significant reduction in a margin of safety.

The proposed amendment does not affect any margin of safety. The proposed amendment does not involve any physical changes to the plant or manner in which the plant is operated.

Therefore, the proposed amendment would not involve a significant reduction in a margin of safety.

The NRC staff has reviewed the licensee's analysis and, based on this review, it appears that the three standards of 10 CFR 50.92(c) are satisfied. Therefore, the NRC staff proposes to determine that the amendment request involves no significant hazards consideration.

Attorney for licensee: Jonathan Rogoff, Esquire, Vice President, Counsel & Secretary, Nuclear Management Company, LLC, 700 First Street, Hudson, WI 54016.

NRC Section Chief: L. Raghavan.

Southern Nuclear Operating Company, Inc, Docket Nos. 50-348, Joseph M. Farley Nuclear Plant, Unit 1, Houston County, Alabama

Date of amendment request: September 19, 2003.

Description of amendment request: The proposed amendment would revise Technical Specifications (TS) Limiting Conditions for Operation (LCO) 3.8.4, “DC Sources—Operating,” for the remainder of operating cycle 19. Specifically, the proposed TS change would increase the Completion Time for the 1B Auxiliary Building DC electrical power system inoperability due to an inoperable battery to allow for on-line replacement of individual cells. Cycle 19 is presently scheduled to end on October 2, 2004.

Basis for proposed no significant hazards consideration determination: As required by 10 CFR 50.91(a), the licensee has provided its analysis of the issue of no significant hazards consideration, which is presented below:

1. The proposed changes do not involve a significant increase in the probability or consequences of an accident previously evaluated.

The proposed change to LCO 3.8.4 creates an extended Completion Time for an inoperable 1B Auxiliary Building DC electrical power subsystem due to an inoperable battery on Unit 1 only for the remainder of operating cycle 19. The Auxiliary Building battery is not a direct initiator of any analyzed accident sequence. The radiological consequences of any associated accidents are not impacted by the proposed amendment. Therefore, the proposed amendment does not involve a significant increase in the probability or consequences of an accident previously evaluated.

2. The proposed changes do not create the possibility of a new or different kind of accident from any accident previously evaluated.

The proposed change involves no change to the physical plant. It allows additional time for corrective maintenance on the 1B Auxiliary Building battery on Unit 1. The proposed amendment involves an extension of a previously determined acceptable mode of operation. The proposed amendment does not introduce any new equipment, create new failure modes for existing equipment, or create any new limiting single failures. Therefore, the proposed amendment does not create the possibility of a new or different kind of accident from any accident previously evaluated.

3. The proposed changes do not involve a significant reduction in a margin of safety.

The physical plant is unaffected by these changes. The proposed changes do not impact accident offsite dose, containment pressure or temperature, emergency core cooling system (ECCS) or reactor protection system (RPS) settings or any other parameter that could affect a margin of safety. Under the proposed amendment, the unit will continue to be operated in a condition that will ensure that emergency power will be available as needed. The extended Completion Time for an inoperable battery has been shown to have a very small impact on plant risk using the criteria of Regulatory Guides 1.174, An Approach for Using Probabilistic Risk Assessments in Risk-Informed Decision-making and 1.177, An Approach for Plant-Specific. Risk-Informed Decisionmaking: Technical Specifications and is acceptable. Therefore, the proposed amendment does not involve a significant reduction in a margin to safety.

The NRC staff has reviewed the licensee's analysis and, based on this review, it appears that the three standards of 10 CFR 50.92(c) are satisfied. Therefore, the NRC staff proposes to determine that the amendment request involves no significant hazards consideration.

Attorney for licensee: M. Stanford Blanton, Esq., Balch and Bingham, Post Office Box 306, 1710 Sixth Avenue North, Birmingham, Alabama 35201.

NRC Section Chief: John A. Nakoski.

Southern Nuclear Operating Company, Inc, Docket Nos. 50-348 and 50-364, Joseph M. Farley Nuclear Plant, Units 1 and 2, Houston County, Alabama

Date of amendment request: August 29, 2003.

Description of amendment request: The proposed amendments would revise Technical Specifications Limiting Condition of Operation 3.9.3, “Containment Penetrations.” The proposed changes would allow the equipment hatch to be open during core alterations and/or during movement of irradiated fuel assemblies within containment.

Basis for proposed no significant hazards consideration determination: As required by 10 CFR 50.91(a), the licensee has provided its analysis of the issue of no significant hazards consideration, which is presented below:

1. Do the proposed changes involve a significant increase in the probability or consequences of an accident previously evaluated?

No. The proposed changes will allow the equipment hatch to be open during core alterations and movement of irradiated fuel assemblies inside containment. The proposed changes will not alter the manner in which fuel is handled or core alterations are performed. The equipment hatch is not an initiator of any accident. The status of the equipment hatch during refueling operations has no effect on the probability of the occurrence of any accident previously evaluated. The radiological consequences of a fuel handling accident inside containment have been determined to be well within the limits of 10 CFR 100 and they meet the acceptance criteria of General Design Criterion (GDC) 19. Therefore the proposed changes do not involve a significant increase in the probability or consequences of [any] accident previously evaluated.

2. Do the proposed changes create the possibility of a new or different kind of accident from any previously evaluated?

No. The proposed changes do not create any new failure modes for any system or component, nor do they adversely affect plant operation. No new equipment will be added and no new limiting single failures will be created. Therefore, the proposed changes do not create the possibility of a new or different kind of accident [from any accident] previously evaluated.

3. Do the proposed changes involve a significant reduction in a margin of safety?

No. The dose consequences were determined to be well within the limits of 10 CFR 100 and they meet the acceptance criteria of GDC 19. Therefore, the proposed changes do not involve a significant reduction in a margin of safety.

The NRC staff has reviewed the licensee's analysis and, based on this review, it appears that the three standards of 10 CFR 50.92(c) are satisfied. Therefore, the NRC staff proposes to determine that the amendment request involves no significant hazards consideration.

Attorney for licensee: M. Stanford Blanton, Esq., Balch and Bingham, Post Office Box 306, 1710 Sixth Avenue North, Birmingham, Alabama 35201.

NRC Section Chief: John A. Nakoski.

Southern Nuclear Operating Company, Inc., Georgia Power Company, Oglethorpe Power Corporation, Municipal Electric Authority of Georgia, City of Dalton, Georgia, Docket Nos. 50-321 and 50-366, Edwin I. Hatch Nuclear Plant, Units 1 and 2, Appling County, Georgia

Date of amendment request: October 3, 2003.

Description of amendment request: The proposed amendments would add a Limiting Condition for Operation (LCO) for the Linear Heat Generation Rate. The new LCO will be included in Section 3.2, Power Distribution Limits. The proposed amendments would also change the recirculation loop LCO, Section 5.6.5, and the appropriate Bases.

Basis for proposed no significant hazards consideration determination: As required by 10 CFR 50.91(a), the licensee has provided its analysis of the issue of no significant hazards consideration, which is presented below:

1. Does the proposed change involve a significant increase in the probability or consequences of an accident previously evaluated?

The proposed addition of LCO 3.2.3 and supporting Bases are being made to support new modeling improvements in core monitoring. This change is administrative in nature in that it does not involve, require, or result from any physical change to the plant, including the reactor core or its fuel. The addition of LCO 3.2.3 and Bases B 3.2.3 is consistent with Revision 2 of Volumes 1 and 2 of NUREG-1433. Changes being proposed for Bases section B 3.2.1 and TS Section 5.6.5 are simply supportive in nature to the relocation of LHGR [linear heat generation rate] from the APLHGR [averageplant linear heat generation rate] Section Bases B 3.2.1 to the new section LHGR B 3.2.3.

Also, no changes are being proposed to any plant system, structure, or component designed to prevent or mitigate the consequences of a previously evaluated event.

Therefore, because the physical characteristics and performance requirements of the plant systems, structures, and components (including the reactor core and fuel) will not be altered, the proposed license amendment does not involve a significant increase in the probability or consequences of any accident previously evaluated.

2. The proposed change does not create the possibility of a new or different kind of accident from any accident previously evaluated.

No plant systems, structures, or components (including the reactor core and fuel) will be altered by the proposed change to the LCO or supporting Bases.

Additionally, this TS [technical specification] change request does not propose changes in the operation of any plant system. Consequently, new and unanalyzed modes of operation are not introduced.

As a result, the possibility of a new or different kind of accident from any previously evaluated is not introduced.

3. The proposed change does not involve a significant reduction in the margin of safety.

Previously, the LHGR was included in the monitoring of the APLHGR. Now, SNC [Southern Nuclear Company] proposes to monitor LHGR on its own while continuing to monitor APLHGR. This proposed TS change adds an LCO for LHGR and a corresponding requirement for the COLR [core operating limits report].

The margin of safety is not reduced since the LHGR and APLHGR will continue to be monitored.

The NRC staff has reviewed the licensee's analysis and, based on this review, it appears that the three standards of 10 CFR 50.92(c) are satisfied. Therefore, the NRC staff proposes to determine that the amendment request involves no significant hazards consideration.

Attorney for licensee: Ernest L. Blake, Jr., Esquire, Shaw, Pittman, Potts and Trowbridge, 2300 N Street, NW., Washington, DC 20037.

NRC Section Chief: John A. Nakoski.

STP Nuclear Operating Company, Docket Nos. 50-498 and 50-499, South Texas Project, Units 1 and 2, Matagorda County, Texas

Date of amendment request: May 13, 2003.

Description of amendment request: The proposed license amendment would allow use of a revised methodology, for performance of certain accident analyses, described in Westinghouse Electric Corp. (W) report WCAP-14882-S1-P, Revision 0 (Proprietary), “RETRAN-02, Modeling and Qualification for Westinghouse Pressurized Water Reactors Non-LOCA Safety Analyses, Supplement 1—Thick Metal Mass Heat Transfer Model and NOTRUMP-Based Steam Generator Mass Calculation Method,” dated December 2002.

Basis for proposed no significant hazards consideration determination: As required by 10 CFR 50.91(a), the licensee has provided its analysis of the issue of no significant hazards consideration, which is presented below:

1. Does the proposed change involve a significant increase in the probability or consequences of an accident previously evaluated?

Response: No. The proposed methodology uses more realistic computer models with unnecessary conservatism removed. The methodology used to analyze the consequences of a postulated accident is not an initiator that can affect the probability or consequences of that accident. The change does not alter assumptions previously made in the radiological consequences of the accident. Therefore, the proposed change does not involve a significant increase in the probability or consequences of an accident previously evaluated.

2. Does the proposed change create the possibility of a new or different kind of accident from any accident previously evaluated?

Response: No. The proposed methodology uses more realistic computer models with unnecessary conservatism removed. The methodology used to analyze the consequences of a postulated accident is not an initiator that can cause an accident to occur. Therefore, the proposed change does not create the possibility of a new or different kind of accident from any accident previously evaluated.

3. Does the proposed change involve a significant reduction in a margin of safety?

Response: No. The proposed methodology uses more realistic computer models with unnecessary conservatism removed. Using the methodology of WCAP-14882-S1-P results in additional margin to pressurizer overfill for a postulated loss of normal feedwater/ loss of offsite power at STP. Therefore, the proposed changes do not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Section Chief: Robert A. Gramm.

STP Nuclear Operating Company (STPNOC), Docket Nos. 50-498 and 50-499, South Texas Project, Units 1 and 2, Matagorda County, Texas

Date of amendment request: September 22, 2003.

Description of amendment request: The proposed amendments would change the requirements for the Engineered Safety Feature sequencer, and the Surveillance Requirements that are applicable in Mode 5 and 6 to provide needed clarification. In addition, the proposed amendment would correct a typographical error in that requirement “c.” in Technical Specification 3.2.4 should actually be requirement “b.”.

Basis for proposed no significant hazards consideration determination: As required by 10 CFR 50.91(a), the licensee has provided its analysis of the issue of no significant hazards consideration, which is presented below:

1. Does the proposed change involve a significant increase in the probability or consequences of an accident previously evaluated?

Response: No.

The proposed changes do not change the plant design basis, system configuration or operation, and do not add or affect any accident initiator.

Therefore, STPNOC concludes that there is no significant increase in the probability or consequences of an accident previously evaluated.

2. Does the proposed change create the possibility of a new or different kind of accident from any accident previously evaluated?

Response: No.

The proposed changes do not change the plant design basis, system configuration or operation, and do not add or affect any accident initiator.

Therefore, STPNOC concludes the proposed change does not create the possibility of a new or different kind of accident from any accident previously evaluated.

3. Does the proposed change involve a significant reduction in a margin of safety?

Response: No.

No actual plant equipment or accident analyses will be affected by the proposed change. Additionally, the proposed changes will not relax any criteria used to establish safety limits, will not relax any safety systems settings, or will not relax the bases for any limiting conditions of operation. Therefore, STPNOC concludes the proposed changes do not involve a significant reduction in the margin of safety.

The NRC staff has reviewed the licensee's analysis and, based on this review, it appears that the standards of 10 CFR 50.92(c) are satisfied. With regard to the licensee's proposed correction of a typographical error in TS 3.2.4, the NRC staff notes the following:

1. Does the proposed change involve a significant increase in the probability or consequences of an accident previously evaluated?

Response: No.

Correction of a typographical error does not change the plant design basis, system configuration or operation, and does not add or affect any accident initiator. Therefore, there is no significant increase in the probability or consequences of an accident previously evaluated.

2. Does the proposed change create the possibility of a new or different kind of accident from any accident previously evaluated?

Response: No.

Correction of a typographical error does not change the plant design basis, system configuration or operation, and does not add or affect any accident initiator. Therefore, the proposed change does not create the possibility of a new or different kind of accident from any accident previously evaluated.

3. Does the proposed change involve a significant reduction in a margin of safety?

Response: No.

No actual plant equipment or accident analyses will be affected by the proposed change. Additionally, the proposed changes will not relax any criteria used to establish safety limits, will not relax any safety systems settings, or will not relax the bases for any limiting conditions of operation. Therefore, the proposed change does not involve a significant reduction in the margin of safety.

Based upon the above, the NRC staff concludes that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Section Chief: Robert A. Gramm.

STP Nuclear Operating Company (STPNOC), Docket Nos. 50-498 and 50-499, South Texas Project, Units 1 and 2, Matagorda County, Texas

Date of amendment request: September 22, 2003.

Description of amendment request: The proposed amendments would change the Technical Specification 3.3.2 requirements for Loss of Power Instrumentation (Functional Unit 8).

Basis for proposed no significant hazards consideration determination: As required by 10 CFR 50.91(a), the licensee has provided its analysis of the issue of no significant hazards consideration, which is presented below:

1. Does the proposed change involve a significant increase in the probability or consequences of an accident previously evaluated?

Response: No.

The proposed changes do not change the plant design basis, system configuration or operation, and do not add or affect any accident initiator.

Therefore, STPNOC concludes that there is no significant increase in the probability or consequences of an accident previously evaluated.

2. Does the proposed change create the possibility of a new or different kind of accident from any accident previously evaluated?

Response: No.

The proposed changes do not change the plant design basis, system configuration or operation, and do not add or affect any accident initiator.

Therefore, STPNOC concludes the proposed change does not create the possibility of a new or different kind of accident from any accident previously evaluated.

3. Does the proposed change involve a significant reduction in a margin of safety?

Response: No.

No actual plant equipment or accident analyses will be affected by the proposed change. Additionally, the proposed changes will not relax any criteria used to establish safety limits, will not relax any safety systems settings, or will not relax the bases for any limiting conditions of operation. Therefore, STPNOC concludes the proposed changes do not involve a significant reduction in the margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Section Chief: Robert A. Gramm.

STP Nuclear Operating Company, Docket Nos. 50-498 and 50-499, South Texas Project, Units 1 and 2, Matagorda County, Texas

Date of amendment request: October 16, 2003.

Description of amendment request: The proposed amendments request a one-time change to Technical Specification (TS) 4.4.5.3a to extend the 40-month steam generator inspection interval to 44 months for Unit 1 only.

Basis for proposed no significant hazards consideration determination: As required by 10 CFR 50.91(a), the licensee has provided its analysis of the issue of no significant hazards consideration, which is presented below:

1. Does the proposed change involve a significant increase in the probability or consequences of an accident previously evaluated?

Response: No.

The proposed change does not alter the plant design. The scope of inspections performed during 1RE10 [Refueling Outage 10 for Unit 1], the first refueling outage following SG [steam generator] replacement, exceeded the TS requirements for the first two refueling outages after replacement combined. That is, more tubes were inspected than were required by TS. Currently, South Texas Project Unit 1 does not have an active SG damage mechanism and will meet the current industry examination guidelines without performing inspections during the next refueling outage. The results of the Condition Monitoring Assessment after 1RE10 demonstrated that all performance criteria were met during 1RE10. The results of the 1RE10 Operational Assessment show that all performance criteria will be met over the proposed operating period.

Therefore, the proposed change does not involve a significant increase in the probability or consequences of an accident previously evaluated.

2. Does the proposed change create the possibility of a new or different kind of accident from any accident previously evaluated?

Response: No.

The proposed change does not alter any plant design basis or postulated accident resulting from potential SG tube degradation. The scope of inspections performed during 1RE10, the first refueling outage following SG replacement, significantly exceeded the TS requirements for the scope of the first two refueling outages after SG replacement combined.

The proposed change does not affect the design of the SGs, the method of operation, or reactor coolant chemistry controls. No new equipment is being introduced and installed equipment is not being operated in a new or different manner. The proposed change involves a one-time extension to the SG tube inservice inspection interval, and therefore will not give rise to new failure modes. In addition, the proposed change does not impact any other plant system or components.

Therefore, the proposed change does not create the possibility of a new or different kind of accident from any accident previously evaluated.

3. Does the proposed change involve a significant reduction in a margin of safety?

Response: No.

Steam generator tube integrity is a function of design, environment, and current physical condition. Extending the SG tube inservice inspection frequency [interval] by four months does not alter the function or design of the SGs. Inspections conducted prior to placing the SGs into service (preservice inspections) and inspection during the first refueling outage following SG replacement demonstrate that the SGs do not have fabrication damage or an active damage mechanism. The scope of those inspections significantly exceeded those required by the TS. These inspection results were comparable to similar inspection results for the same model of RSGs [replacement steam generators] installed at other plants, and subsequent inspections at those plants yielded results that support this extension request. The improved design of the replacement SGs also provides reasonable assurance that significant tube degradation is not likely to occur over the proposed operating period.

Therefore, the proposed change does not involve a significant reduction in a margin of safety.

The NRC staff has reviewed the licensee's analysis and, based on this review, it appears that the standards of 10 CFR 50.92(c) are satisfied. Therefore, the NRC staff proposes to determine that the request for amendments involves no significant hazards consideration.

Attorney for licensee: A. H. Gutterman, Esq., Morgan, Lewis & Bockius, 1111 Pennsylvania Avenue, NW., Washington, DC 20004.

NRC Section Chief: Robert A. Gramm.

TXU Generation Company LP, Docket Nos. 50-445 and 50-446, Comanche Peak Steam Electric Station, Units 1 and 2, Somervell County, Texas

Date of amendment request: September 23, 2003.

Brief description of amendments: The proposed change would revise Technical Specification (TS) 3.6.3 entitled, “Containment Isolation Valves,” to extend the frequency of Surveillance Requirement 3.6.3.7 for containment and hydrogen purge valves and containment pressure relief valves with resilient seats.

Basis for proposed no significant hazards consideration determination: As required by Title 10 of the Code of Federal Regulations (10 CFR), Section 50.91(a), the licensee has provided its analysis of the issue of no significant hazards consideration, which is presented below:

1. Do the proposed changes involve a significant increase in the probability or consequences of an accident previously evaluated?

Response: No.

Operability and leakage control effectiveness of the containment purge, hydrogen purge and containment pressure relief system isolation valves have no effect on whether or not an accident occurs. Consequently, increasing the interval between surveillances of isolation valve leakrate does not involve a significant increase in the probability of an accident previously evaluated. The consequences of a non-isolated reactor containment building at the time of a fuel-handling accident or LOCA [loss-of-coolant accident] is release of radionuclides to the environment. Analyses have conservatively assumed that a containment pressure relief system line is open at the time of an accident, and release to the environment continues until the isolation valves are closed. In addition, LOCA analyses assume containment leakage of 0.1% of the containment volume per day for the first 24 hours and 0.05% per day for the duration of the accident. Consequently, increasing the interval between surveillances of isolation valve leakrate does not involve a significant increase in the consequences of an accident previously evaluated.

2. Do the proposed changes create the possibility of a new or different kind of accident from any accident previously evaluated?

Response: No.

The proposed changes do not involve a modification to the physical configuration of the plant (i.e., no new equipment will be installed) or change in the methods governing normal plant operation. The proposed change will not impose any new or different requirements or introduce a new accident initiator, accident precursor, or malfunction mechanism. The functions of the containment purge, hydrogen purge and containment pressure relief systems are not altered by this change. Therefore, this proposed change does not create the possibility of an accident of a different kind than previously evaluated.

3. Do the proposed changes involve a significant reduction in a margin of safety?

Response: No.

This proposed change only increases the interval between surveillance tests of the containment purge, hydrogen purge and containment pressure relief system valves. Analyses have conservatively assumed that the containment purge valves are open at the time of a fuel handling accident, and that the containment pressure relief valve is open at the time of a loss-of-coolant accident. In addition, LOCA analyses assume containment leakage of 0.1% of the containment volume per day for the first 24 hours and 0.05% per day for the duration of the accident. The radiological consequences of both an fuel handling accident and a LOCA are unchanged and remain within the 10 CFR 100 limits. Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: George L. Edgar, Esq., Morgan, Lewis and Bockius, 1800 M Street, NW., Washington, DC 20036.

NRC Section Chief: Robert A. Gramm.

Wolf Creek Nuclear Operating Corporation, Docket No. 50-482, Wolf Creek Generating Station, Coffey County, Kansas

Date of amendment request: October 17, 2003.

Description of amendment request: The licensee is proposing to revise Technical Specification (TS) Section 5.5.6, “Containment Tendon Surveillance Program,” for consistency with the requirements of 10 CFR 50.55a(g)(4) for components classified as Code Class CC. The proposed revision to TS 5.5.6 is to indicate that the Containment Tendon Surveillance Program, inspection frequencies, and acceptance criteria shall be in accordance with Section XI, Subsection IWL of the ASME Boiler and Pressure Vessel Code and the applicable addenda as required by 10 CFR 50.55a, except where an exemption or relief has been authorized by the NRC. The licensee has also proposed to delete the provisions of Surveillance Requirement (SR) 3.0.2 from this specification. In addition, the licensee is proposing to revise TS 5.5.16, “Containment Leakage Rate Testing Program,” to add exceptions to Regulatory Guide 1.163, “Performance-Based Containment Leak-Testing Program.”

Basis for proposed no significant hazards consideration determination: As required by 10 CFR 50.91(a), the licensee has provided its analysis of the issue of no significant hazards consideration, which is presented below:

1. The proposed change does not involve a significant increase in the probability or consequences of an accident previously evaluated.

The proposed change revises the TS administrative controls programs for consistency with the requirements of 10 CFR 50.55a(g)(4) for components classified as Code Class CC. The revised requirements do not affect the function of the containment post-tensioning system components. The post-tensioning systems are passive components whose failure modes could not act as accident initiators or precursors.

The proposed change affects the frequency of visual examinations that will be performed for the concrete surfaces of the containment for the purpose of the Containment Leakage Rate Testing Program. In addition, the proposed change allows those examinations to be performed during power operation[,] as opposed to during a refueling outage. The frequency of visual examinations of the concrete surfaces of the containment and the mode of operation during which those examinations are performed has no relationship to or adverse impact on the probability of any of the initiating events assumed in the accident analyses. The proposed change would allow visual examinations[,] that are performed pursuant to NRC approved ASME Section XI Code requirements (except where relief has been granted by the NRC)[,] to meet the intent of visual examinations [as] required by Regulatory Guide 1.163, without requiring additional visual examinations pursuant to the Regulatory Guide. The intent of early detection of deterioration will continue to be met by the more rigorous requirements of the Code[-]required visual examinations. As such, the safety function of the containment as a fission product barrier is maintained.

The proposed change does not impact any accident initiators or analyzed events or assumed mitigation of accident or transient events. They do not involve the addition or removal of any equipment, or any design changes to the facility.

Therefore, the proposed change does not involve a significant increase in the probability or consequences of an accident previously evaluated.

2. The proposed change does not create the possibility of a new or different kind of accident from any accident previously evaluated.

The proposed change revises the TS administrative controls programs for consistency with the requirements of 10 CFR 50.55a(g)(4) for components classified as Code Class CC. The function of the containment post-tensioning system components are not altered by this change. The change affects the frequency of visual examinations that will be performed for the concrete surfaces containments. In addition, the proposed change allows those examinations to be performed during power operation[,] as opposed to during a refueling outage. The proposed change does not involve a modification to the physical configuration of the plant (i.e., no new equipment will be installed) or change in the methods governing normal plant operation. The proposed change will not impose any new or different requirements or introduce a new accident initiator, accident precursor, or malfunction mechanism. Additionally, there is no change in the types or increases in the amounts of any effluent[s] that may be released off-site and there is no increase in individual or cumulative occupational exposure.

Therefore, the proposed change does not create the possibility of a new or different kind of accident from any previously evaluated.

3. The proposed change does not involve a significant reduction in a margin of safety.

The proposed change revises the TS administrative controls programs for consistency with the requirements of 10 CFR 50.55a(g)(4) for components classified as Code Class CC. The function of the containment post-tensioning system components are not altered by this change. The change affects the frequency of visual examinations that will be performed for the concrete surfaces containments. In addition, the proposed change allows those examinations to be performed during power operation[,] as opposed to during a refueling outage. The safety function of the containment as a fission product barrier will be maintained.

Therefore, the proposed change does not involve a significant reduction in a margin of safety.

The NRC staff has reviewed the licensee's analysis and, based on this review, it appears that the three standards of 10 CFR 50.92(c) are satisfied. Therefore, the NRC staff proposes to determine that the amendment request involves no significant hazards consideration.

Attorney for licensee: Jay Silberg, Esq., Shaw, Pittman, Potts and Trowbridge, 2300 N Street, NW., Washington, DC 20037.

NRC Section Chief: Stephen Dembek.

Previously Published Notices of Consideration of Issuance of Amendments to Facility Operating Licenses, Proposed No Significant Hazards Consideration Determination, and Opportunity for a Hearing

The following notices were previously published as separate individual notices. The notice content was the same as above. They were published as individual notices either because time did not allow the Commission to wait for this biweekly notice or because the action involved exigent circumstances. They are repeated here because the biweekly notice lists all amendments issued or proposed to be issued involving no significant hazards consideration.

For details, see the individual notice in the Federal Register on the day and page cited. This notice does not extend the notice period of the original notice.

Entergy Nuclear Operations, Docket No. 50-247, Indian Point Nuclear Generating Unit No. 2, (IP2) Westchester County, New York

Date of application for amendment: March 27, 2002, as supplemented May 30, 2002, July 10, 2002, October 10, 2002, October 28, 2002, November 26, 2002, December 18, 2002, January 6, 2003, January 27, 2003, February 26, 2003, April 8, 2003, May 19, 2003, June 23, 2003, June 26, 2003, July 15, 2003, August 6, 2003, September 11, 2003, October 8, 2003, and October 14, 2003.

Brief description of amendment: The licensee proposed to convert the current Technical Specifications (TSs) for IP2, to a set of improved TSs based on NUREG-1431, “Standard Technical Specifications for Westinghouse Plants,” Revision 2, dated April 2001.

Date of publication of individual notice in Federal Register: September 26, 2003 (68 FR 55660).

Expiration date of individual notice: October 27, 2003.

Attorney for licensee: Mr. John Fulton, Assistant General Counsel, Entergy Nuclear Operations, Inc., 440 Hamilton Avenue, White Plains, NY 10601.

NRC Section Chief: Richard J. Laufer.

Notice of Issuance of Amendments to Facility Operating Licenses

During the period since publication of the last biweekly notice, the Commission has issued the following amendments. The Commission has determined for each of these amendments that the application complies with the standards and requirements of the Atomic Energy Act of 1954, as amended (the Act), and the Commission's rules and regulations. The Commission has made appropriate findings as required by the Act and the Commission's rules and regulations in 10 CFR Chapter I, which are set forth in the license amendment.

Notice of Consideration of Issuance of Amendment to Facility Operating License, Proposed No Significant Hazards Consideration Determination, and Opportunity for A Hearing in connection with these actions was published in the Federal Register as indicated.

Unless otherwise indicated, the Commission has determined that these amendments satisfy the criteria for categorical exclusion in accordance with 10 CFR 51.22. Therefore, pursuant to 10 CFR 51.22(b), no environmental impact statement or environmental assessment need be prepared for these amendments. If the Commission has prepared an environmental assessment under the special circumstances provision in 10 CFR 51.12(b) and has made a determination based on that assessment, it is so indicated.

For further details with respect to the action see (1) the applications for amendment, (2) the amendment, and (3) the Commission's related letter, Safety Evaluation and/or Environmental Assessment as indicated. All of these items are available for public inspection at the Commission's Public Document Room, located at One White Flint North, Public File Area 01F21, 11555 Rockville Pike (first floor), Rockville, Maryland. Publicly available records will be accessible from the Agencywide Documents Access and Management Systems (ADAMS) Public Electronic Reading Room on the internet at the NRC Web site, http://www.nrc.gov/reading-rm/adams.html. If you do not have access to ADAMS or if there are problems in accessing the documents located in ADAMS, contact the NRC Public Document Room (PDR) Reference staff at 1-800-397-4209, 301-415-4737 or by email to pdr@nrc.gov.

AmerGen Energy Company, LLC, Docket No. 50-289, Three Mile Island Nuclear Station, Unit 1 (TMI-1), Dauphin County, Pennsylvania

Date of application for amendment: January 16, 2003, as supplemented June 11, 2003.

Brief description of amendment: The amendment revised the Technical Specifications to incorporate changes associated with Cycle 15 core reload design analysis. The Cycle 15 core reload design implements the Framatome ANP Statistical Core Design methodology . This amendment permits the licensee to determine the minimum departure from nucleate boiling ratio using an NRC-approved methodology based on statistical analysis of operational and design uncertainties.

Date of issuance: October 20, 2003.

Effective date: As of the date of issuance and shall be implemented within 30 days.

Amendment No.: 247.

Facility Operating License No. DPR-50. Amendment revised the Technical Specifications.

Date of initial notice in Federal Register: March 18, 2003 (68 FR 12948). The supplement dated June 11, 2003, provided additional information that clarified the application, did not expand the scope of the application as originally noticed, and did not change the staff's original proposed no significant hazards consideration determination. The Commission's related evaluation of the amendment is contained in a Safety Evaluation dated October 20, 2003.

No significant hazards consideration comments received: No.

Arizona Public Service Company, et al., Docket Nos. STN 50-528, STN 50-529, and STN 50-530, Palo Verde Nuclear Generating Station, Units Nos. 1, 2, and 3, Maricopa County, Arizona

Date of application for amendments: November 7, 2002, as supplemented by letters dated April 25, July 10, July 30, August 13, September 18, and October 1, 2003.

Brief description of amendments: The amendments revise Technical Specification (TS) 3.2.4, “Departure From Nucleate Boiling Ratio (DNBR),” TS 3.3.1, “Reactor Protective System (RPS) Instrumentation—Operating,” TS 3.3.3, “Control Element Assembly Calculators (CEACs),” and TS 5.4.1, “Administrative Controls—Procedures.” The revisions are to Limiting Conditions for Operations (LCOs), LCO Actions, LCO Surveillance Requirements, and the procedures used to modify the core protection calculator addressable constants.

Date of issuance: October 24, 2003.

Effective date: October 24, 2003, and shall be implemented for Unit 1 no later than prior to entry of Unit 1 into Mode 4 during the restart from the Unit 1 spring 2004 refueling outage; for Unit 2 within 90 days of the date of issuance, but no later than prior to entry of Unit 2 into Mode 4 during the restart from the Unit 2 fall 2003 refueling outage; and for Unit 3 no later than prior to entry of Unit 3 into Mode 4 during the restart from the Unit 3 fall 2004 refueling outage.

Amendment Nos.: Unit 1-150, Unit 2-150, Unit 3-150.

Facility Operating License Nos. NPF-41, NPF-51, and NPF-74: The amendments revise the Technical Specifications.

Date of initial notice in Federal Register: December 10, 2002 (67 FR 75868) with a later notice on August 18, 2003 (68 FR 49527).

The August 13, September 18 and October 1, 2003, supplemental letters provided clarifying information that was within the scope of the Federal Register Notice (68 FR 49257) and did not change the no significant hazards consideration determination.

The Commission's related evaluation of the amendments are contained in a Safety Evaluation dated October 24, 2003.

No significant hazards consideration comments received: No.

Entergy Operations, Inc., Docket No. 50-382, Waterford Steam Electric Station, Unit 3, St. Charles Parish, Louisiana

Date of amendment request: December 16, 2002, as supplemented by letter dated September 11, 2003.

Brief description of amendment: The amendment revises the current main steam isolation valve (MSIV) Technical Specification (TS) 3/4 7.1.5 to more closely reflect TS 3.7.2 contained in NUREG-1432, Revision 2. In addition, this change removes the MSIVs from the scope of containment isolation valve TS 3/4 6.3 such that only TS 3/4.7.1.5 will apply to the MSIVs.

Date of issuance: October 21, 2003.

Effective date: As of the date of issuance and shall be implemented 60 days from the date of issuance.

Amendment No.: 190.

Facility Operating License No. NPF-38: The amendment revised the Technical Specifications.

Date of initial notice in Federal Register: February 4, 2003 (68 FR 5671).

The licensee attached a revised no significant hazards consideration (NSHC) determination with the supplement dated September 11, 2003. This revised NSHC determination contained minor wording changes as compared with the NSHC determination sent with the original application dated December 16, 2002, changes made to reflect the new TS changes, and provided additional information that clarified the application, did not expand the scope of the application as originally noticed, and did not change the conclusions of the original NSHC determination.

The Commission's related evaluation of the amendment is contained in a Safety Evaluation dated October 21, 2003.

No significant hazards consideration comments received: No.

Entergy Operations, Inc., System Energy Resources, Inc., South Mississippi Electric Power Association, and Entergy Mississippi, Inc., Docket No. 50-416, Grand Gulf Nuclear Station, Unit 1, Claiborne County, Mississippi

Date of application for amendment: May 12, 2003, as supplemented by letter dated August 7, 2003.

Brief description of amendment: The amendment would revise the Technical Specifications to remove the MODE restrictions for performance of Surveillance Requirements 3.8.4.7 and 3.8.4.8 for the Division 3 direct current electrical power subsystem.

Date of issuance: October 27, 2003.

Effective date: As of the date of issuance and shall be implemented within 60 days of issuance.

Amendment No: 159.

Facility Operating License No. NPF-29: The amendment revises the Technical Specifications.

Date of initial notice in Federal Register: June 10, 2003 (68 FR 34665). The August 7, 2003, supplemental letter provided clarifying information that did not change the scope of the original Federal Register notice or the original no significant hazards consideration determination.

The Commission's related evaluation of the amendment is contained in a Safety Evaluation dated October 27, 2003.

No significant hazards consideration comments received: No.

Florida Power and Light Company, Docket Nos. 50-250 and 50-251, Turkey Point Plant, Units 3 and 4, Miami-Dade County, Florida

Date of application for amendments: December 20, 2002, as supplemented August 15, 2003.

Brief description of amendments: The amendments provide editorial and administrative changes to the Technical Specifications. The changes correct typographical, spelling, numbering syntax, page break, and font consistency errors as well as removing blank pages and associated references. There are no substantive changes made in the proposed amendment.

Date of issuance: October 21, 2003.

Effective date: As of the date of issuance and shall be implemented within 60 days of issuance.

Amendment Nos: 224 and 219.

Renewed Facility Operating License Nos. DPR-31 and DPR-41: Amendments revised the Technical Specifications.

Date of initial notice in Federal Register: February 4, 2003 (68 FR 5677). The supplemental letter provided clarifying information that was within the scope of the initial notice and did not change the initial proposed no significant hazards consideration determination.

The Commission's related evaluation of the amendments is contained in an Environmental Assessment dated October 17, 2003, and a Safety Evaluation dated October 21, 2003.

No significant hazards consideration comments received: No.

GPU Nuclear Inc., Docket No. 50-320, Three Mile Island Nuclear Station, Unit 2, Dauphin County, Pennsylvania

Date of amendment request: July 21, 2003.

Brief description of amendment request: The amendment revises the technical specification (TS) administrative controls to make the Three Mile Island (TMI) Unit 2 radioactive effluent control program consistent with the program for the TMI Unit 1 operating reactor TS. The proposed change adopts the TMI Unit 1 liquid discharge limits since both Units 1 and 2 use the same liquid discharge monitor and have a common discharge pathway. The gaseous discharge limits will also be updated to reflect the current 10 CFR 20 nomenclature along with some minor editorial changes. Additionally, the definition of a member of the public will be made consistent with the definition in 10 CFR 20.

Date of issuance: October 20, 2003.

Effective date: As of the date of issuance and shall be implemented within 30 days.

Amendment No.: 60.

Facility Operating License No. DPR-73: Amendment revises the Technical Specifications.

Date of initial notice in Federal Register: September 18, 2003 (68 FR 54750).

The Commission's related evaluation of the amendment is contained in a safety evaluation dated October 20, 2003.

No significant hazards consideration comments received: No.

Nine Mile Point Nuclear Station, LLC, Docket No. 50-220, Nine Mile Point Nuclear Station, Unit No. 1, Oswego County, New York

Date of application for amendment: November 15, 2002, as supplemented by letters dated January 15, July 31, and September 15, 2003.

Brief description of amendment: The amendment revised the reactor coolant system pressure-temperature limit curves and tables in Section 3/4.2.2, “Minimum Reactor Vessel Temperature for Pressurization,” of the Technical Specifications. The revised curves and tables are effective up to 28 effective full-power years.

Date of issuance: October 27, 2003.

Effective date: October 27, 2003, to be implemented within 60 days.

Amendment No.: 183.

Facility Operating License No. DPR-63: Amendment revised the Technical Specifications.

Date of initial notice in Federal Register: December 10, 2002 (67 FR 75882).

The supplemental letters of January 15, July 31, and September 15, 2003, provided clarifying information that did not change the initial proposed no significant hazards consideration determination.

The Commission's related evaluation of the amendment is contained in a Safety Evaluation dated October 27, 2003.

No significant hazards consideration comments received: No.

Nuclear Management Company, LLC, Docket No. 50-255, Palisades Plant, Van Buren County, Michigan

Date of application for amendment: April 30, 2003.

Brief description of amendment: The amendment revises Technical Specification Section 5.3, “Plant Staff Qualifications,” to update requirements that have been outdated based on licensed operator training programs being accredited by the National Academy for Nuclear Training and promulgation of the revised 10 CFR Part 55, “Operators” Licenses.”

Date of issuance: October 24, 2003.

Effective date: As of the date of issuance and shall be implemented within 45 days.

Amendment No.: 212.

Facility Operating License No. DPR-20. Amendment revised the Technical Specifications.

Date of initial notice in Federal Register: June 10, 2003 (68 FR 34670).

The Commission's related evaluation of the amendment is contained in a Safety Evaluation dated October 24, 2003.

No significant hazards consideration comments received: No.

Nuclear Management Company, LLC, Docket Nos. 50-266 and 50-301, Point Beach Nuclear Plant, Units 1 and 2, Town of Two Creeks, Manitowoc County, Wisconsin

Date of application for amendments: October 17, 2002.

Brief description of amendments: The amendment revises Technical Specification 3.7.9, “Control Room Emergency Filtration System (CREFS),” by deleting the one-time extension to the allowed outage time (AOT) for CREFS and the exception requirements of Limiting Condition for Operation 3.04 and Surveillance Requirement 3.04 that were allowed during the AOT.

Date of issuance: October 16, 2003.

Effective date: As of the date of issuance and shall be implemented within 45 days.

Amendment Nos.: 210 and 215.

Facility Operating License Nos. DPR-24 and DPR-27: Amendments revised the Technical Specifications.

Date of initial notice in Federal Register: February 18, 2003 (68 FR 7818).

The Commission's related evaluation of the amendments is contained in a Safety Evaluation dated October 16, 2003.

No significant hazards consideration comments received: No.

Nuclear Management Company, LLC, Docket Nos. 50-266 and 50-301, Point Beach Nuclear Plant, Units 1 and 2, Town of Two Creeks, Manitowoc County, Wisconsin

Date of application for amendments: April 30, 2003.

Brief description of amendments: The amendments revise Technical Specification Section 5.3, “Plant Staff Qualifications,” to update requirements that have been outdated based on licensed operator training programs being accredited by the National Academy for Nuclear Training and promulgation of the revised 10 CFR Part 55, “Operators” Licenses.”

Date of issuance: October 24, 2003.

Effective date: As of the date of issuance and shall be implemented within 45 days.

Amendment Nos.: 211 and 216.

Facility Operating License Nos. DPR-24 and DPR-27: Amendments revised the Technical Specifications.

Date of initial notice in Federal Register: June 10, 2003 (68 FR 34670).

The Commission's related evaluation of the amendments is contained in a Safety Evaluation dated October 24, 2003.

No significant hazards consideration comments received: No.

Pacific Gas and Electric Company, Docket No. 50-323, Diablo Canyon Nuclear Power Plant, Unit 2, San Luis Obispo County, California

Date of application for amendment: June 26, 2003, as supplemented by letters dated September 3 and September 30, 2003.

Brief description of amendments: The amendment authorizes revisions to the Diablo Canyon Power Plant (DCPP) Final Safety Analysis Report (FSAR) Update to incorporate the NRC approval of a revised steam generator (SG) voltage-based repair criteria probability of detection (POD) method for DCPP Unit No. 2. The revised POD, based on the probability of prior cycle detection method, is approved to determine the beginning of cycle voltage distribution for DCPP Unit 2 Cycle 12 operational assessment.

Date of issuance: October 21, 2003.

Effective date: October 21, 2003, and shall be implemented within 30 days of the date of issuance. The implementation of the amendment includes the incorporation into the FSAR Update the changes discussed above, as described in the licensee's application dated June 26, 2003, and supplements dated September 3 and September 30, 2003, and evaluated in the staff's Safety Evaluation attached to the amendment.

Amendment No.: 164.

Facility Operating License No. DPR-82: The amendment authorized revision of the FSAR Update.

Date of initial notice in Federal Register: July 22, 2003 (68 FR 43392). The supplemental letters dated September 3 and September 30, 2003, provided additional clarifying information, did not expand the scope of the application as originally noticed, and did not change the NRC staff's original proposed no significant hazards consideration determination.

The Commission's related evaluation of the amendment is contained in a Safety Evaluation dated October 21, 2003.

No significant hazards consideration comments received: No.

PSEG Nuclear, LLC, Docket Nos. 50-272 and 50-311, Salem Nuclear Generating Station, Unit Nos. 1 and 2, Salem County, New Jersey

Date of application for amendments: April 11, 2003, as supplemented on August 28 and September 22, 2003.

Brief description of amendments: The amendments modify the Salem Nuclear Generating Station, Unit Nos. 1 and 2, Technical Specifications (TS) Surveillance Requirements (SRs) 4.3.1.1.3 and 4.3.2.1.3, and TS Bases Sections B 3/4.3.1 and B 3/4.3.2 relating to response time testing of the Engineered Safety Features Actuation System and the Reactor Trip System. In addition, the amendment for Salem, Unit No. 1, deletes a footnote associated with SR 4.3.2.1.3, regarding a one-time extension to the SR, that is no longer required.

Date of issuance: October 28, 2003.

Effective date: As of the date of issuance, and shall be implemented within 60 days.

Amendment Nos.: 260 and 241.

Facility Operating License Nos. DPR-70 and DPR-75: The amendments revised the TSs.

Date of initial notice in Federal Register: June 10, 2003 (68 FR 34672).

The Commission's related evaluation of the amendments is contained in a Safety Evaluation dated October 28, 2003.

No significant hazards consideration comments received: No.

South Carolina Electric & Gas Company, South Carolina Public Service Authority, Docket No. 50-395, Virgil C. Summer Nuclear Station, Unit No. 1, Fairfield County, South Carolina

Date of application for amendment: January 14, 2003, as supplemented by letters dated July 1, 2003, and August 20, 2003.

Brief description of amendment: This amendment revises Technical Specification 4.4.5.3.a, maximum inspection interval from 40 calendar months to 58 calendar months after two consecutive inspections which were classified as C-1.

Date of issuance: October 29, 2003.

Effective date: As of the date of issuance and shall be implemented within 30 days from the date of issuance.

Amendment No.: 165.

Facility Operating License No. NPF-12: Amendment revises the Technical Specifications.

Date of initial notice in Federal Register: March 4, 2003 (68 FR 10280).

The Commission's related evaluation of the amendment is contained in a Safety Evaluation dated October 29, 2003.

No significant hazards consideration comments received: No.

Southern California Edison Company, et al., Docket Nos. 50-361 and 50-362, San Onofre Nuclear Generating Station, Units 2 and 3, San Diego County, California

Date of application for amendments: March 25, 2003.

Brief description of amendments: The proposed changes would revise Technical Specification 3.5.2, “Emergency Core Cooling Systems (ECCS)—Operating,” Surveillance Requirement 3.5.2.5. Specifically, the changes replace the requirement to verify specific surveillance test values for the ECCS pumps with the requirement to verify the developed head for each ECCS pump in accordance with the inservice testing Program. These changes are requested to implement recommendations of the Standard Technical Specifications for Combustion Engineering Plants, NUREG-1432, Revision 2.

Date of issuance: October 24, 2003.

Effective date: October 24, 2003, to be implemented within 60 days of issuance.

Amendment Nos.: Unit 2-190; Unit 3-181.

Facility Operating License Nos. NPF-10 and NPF-15: The amendments revised the Technical Specifications.

Date of initial notice in Federal Register: April 15, 2003 (68 FR 18285).

The Commission's related evaluation of the amendments is contained in a Safety Evaluation dated October 24, 2003.

No significant hazards consideration comments received: No.

Tennessee Valley Authority, Docket Nos. 50-327 and 50-328, Sequoyah Nuclear Plant, Units 1 and 2, Hamilton County, Tennessee

Date of application for amendment: January 14, 2003 (TS 02-08).

Brief description of amendment: The proposed amendments revised applicability requirements for Technical Specification (TS) 3.3.9.4, “Containment Building Penetrations.” This modified the applicability requirement associated with movement of “irradiated fuel” by adding a new applicability statement for the containment building equipment door. The requested also modified the current licensing basis to replace the current accident source term used in the design basis fuel handling accident radiological analyses with alternate source term.

Date of issuance: October 28, 2003.

Effective date: As of the date of issuance and shall be implemented within 45 days of issuance.

Amendment Nos.: 288 and 278.

Facility Operating License No. DPR-77: Amendments revised the TSs.

Date of initial notice in Federal Register: February 18, 2003 (68 FR 7822).

The Commission's related evaluation of the amendment is contained in a Safety Evaluation dated October 28, 2003.

No significant hazards consideration comments received: No.

Dated at Rockville, Maryland, this 3rd day of November 2003.
For the Nuclear Regulatory Commission.
Eric J. Leeds,
Deputy Director, Division of Licensing Project Management, Office of Nuclear Reactor Regulation.

[FR Doc. 03-28065 Filed 11-10-03; 8:45 am]

BILLING CODE 7590-01-P